DEPARTMENT OF HEALTH AND HUMAN SERVICES

Centers for Disease Control and Prevention

[30-Day 12-0237]

Agency Forms Undergoing Paperwork Reduction Act Review

The Centers for Disease Control and Prevention (CDC) publishes a list of information collection requests under review by the Office of Management and Budget (OMB) in compliance with the Paperwork Reduction Act (44 U.S.C. chapter 35). To request a copy of these requests, call (404) 639-7570 or send an email to omb@cdc.gov. Send written comments to CDC Desk Officer, Office of Management and Budget, Washington, DC or by fax to (202) 395-5806. Written comments should be received within 30 days of this notice.

Proposed Project

The National Health and Nutrition Examination Survey (NHANES)—(0920-0237, Expiration 11/30/2012)—Extension—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability; environmental, social and other health hazards; and determinants of health of the population of the United States.

The National Health and Nutrition Examination Survey (NHANES) has, to date, been authorized as a generic clearance under OMB Number 0920-0237. A change in accounting practices, however, requires a shift to a newly-assigned clearance number for future full cycles of the survey. This extension requests generic clearance for all activities needed to successfully complete the current 2011-2012 NHANES survey cycle, which ends in early 2013. There are no changes to any information collection forms. A nine month clearance is requested.

The National Health and Nutrition Examination Survey (NHANES) was conducted periodically between 1970 and 1994, and continuously since 1999 by the National Center for Health Statistics, CDC.

Approximately one-quarter year of data collection is needed to complete the 2011-2012 cycle. Approximately 3,850 respondents participate in some aspect of the full survey. Of these, some complete the screening portion and are then screened out of the sample. Some additional respondents complete the screener and the household interview sections, but decline to be examined. The remaining approximately 1,300 participate in the screener, household interview and physical examination and followups. Averaging the burden across all respondents, at these varying levels of participation, results in an average burden of 2.4 hours. The burden for this activity is 9,240 hours.

The completion of the special study, National Youth Fitness Study, will have approximately 1,037 respondents in this quarter for a total burden of 1,037 hours. In addition, up to 1,000 additional persons (non-NHANES respondents) might participate in tests of procedures or other special studies. The average burden for these special study/pretest respondents is 3 hours for a total of 3,000 hours of burden. The burden for these studies is a total of 4,037 hours.

Participation in NHANES is completely voluntary and confidential.

NHANES programs produce descriptive statistics which measure the health and nutrition status of the general population. Through the use of questionnaires, physical examinations, and laboratory tests, NHANES studies the relationship between diet, nutrition and health in a representative sample of the United States. NHANES monitors the prevalence of chronic conditions and risk factors related to health such as arthritis, asthma, osteoporosis, infectious diseases, diabetes, high blood pressure, high cholesterol, obesity, smoking, drug and alcohol use, physical activity, environmental exposures, and diet. NHANES data are used to produce national reference data on height, weight, and nutrient levels in the blood. Results from more recent NHANES can be compared to findings reported from previous surveys to monitor changes in the health of the U.S. population over time. NHANES continues to collect genetic material on a national probability sample for future genetic research aimed at understanding disease susceptibility in the U.S. population. NCHS collects personal identification information. Participant level data items will include basic demographic information, name, address, social security number, Medicare number and participant health information to allow for linkages to other data sources such as the National Death Index and data from the Centers for Medicare and Medicaid Services (CMS).

NHANES data users include the U.S. Congress; numerous Federal agencies such as other branches of the Centers for Disease Control and Prevention, the National Institutes of Health, and the United States Department of Agriculture; private groups such as the American Heart Association; schools of public health; and private businesses. There is no cost to respondents other than their time. The total estimate of annualized burden is 13,277 hours.

Estimated Annualized Burden Table
Type of respondent | Number of respondents | Number of responses per respondent | Average burden per response (in hours)
1. NHANES Respondents | 3,850 | 1 | 2.4
2. Special study/pretest participants | 2,037 | 1 | 2

Dated: August 30, 2012.
Ron A. Otten,
Director, Office of Scientific Integrity, Office of the Associate Director for Science, Office of the Directors, Centers for Disease Control and Prevention.

[FR Doc. 2012-22188 Filed 9-7-12; 8:45 am]

BILLING CODE 4163-18-P